DEPARTMENT OF DEFENSE

Office of the Secretary

[Docket ID DoD-2013-OS-0207]

Proposed Collection; Comment Request

AGENCY: Defense Acquisition University, DoD.

ACTION: Notice.

SUMMARY: In compliance with Section 3506(c)(2)(A) of the Paperwork Reduction Act of 1995, the Defense Acquisition University announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 30, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Center Director, Student Information System, Performance and Resource Management, Defense Acquisition University, 9820 Belvoir Road, Ft. Belvoir, VA 22060, or call the Center Director for the Student Information System, Performance and Resource Management, at 703-805-4288.

SUPPLEMENTARY INFORMATION:

Title; Associated Form; and OMB Number: Defense Acquisition University, Student Information System (SIS); OMB Control Number 0704-TBD.

Needs and Uses: The information collection requirement is necessary to permit an individual to register for a DAU training course. The information is used to evaluate the individual's eligibility for a course and to notify the individual of approval or disapproval of the request. It is also used to notify the training facility of assignments to classes, for training schedule analysis and forecasts, cost analysis, budget estimates, and financial planning.

Affected Public: Individuals associated with the Army, Navy, Air Force, other defense-wide agencies, the federal government, and defense contractors.

Annual Burden Hours: 7,500.

Number of Respondents: 90,000.

Responses per Respondent: 1.

Average Burden per Response: 5 minutes.

Frequency: On Occasion.

Respondents are university applicants and instructors who willingly provide personal information to take courses administered by the Defense Acquisition University. Failure to provide required information results in the individual being denied access to DAU and its course offerings. The data is used by DoD and college officials to: Provide for the administration of and a record of academic performance of current, former, and nominated students; verify grades; select instructors; make decisions to admit students to programs and classes, and to release students from programs; serve as a basis for studies to determine improved criteria for selecting students into classes; forecast demand for future course offerings, and to develop statistics relating to duty assignments and qualifications based on DoD mandated training needs.

Dated: October 24, 2013.
Aaron Siegel,
Alternate OSD Federal Register Liaison Officer, Department of Defense.

[FR Doc. 2013-25519 Filed 10-28-13; 8:45 am]

BILLING CODE 5001-06-P